DEPARTMENT OF THE INTERIOR

Fish and Wildlife Service

[Docket No. FWS-HQ-IA-2018-0001; FXIA16710900000-178-FF09A30000]

Endangered Species; Receipt of Permit Applications

AGENCY: Fish and Wildlife Service, Interior.

ACTION: Notice of receipt of permit applications.

SUMMARY: We, the U.S. Fish and Wildlife Service, invite the public to comment on applications to conduct certain activities with foreign endangered species. With some exceptions, the Endangered Species Act (ESA) prohibits activities with listed species unless Federal authorization is acquired that allows such activities. The ESA also requires that we invite public comment before issuing these permits.

DATES: We must receive comments by April 25, 2018.

ADDRESSES: Document availability: The applications, as well as any comments and other materials that we receive, will be available for public inspection online in Docket No. FWS-HQ-IA-2018-0001 at http://www.regulations.gov.

Submitting Comments: You may submit comments by one of the following methods:

• Federal eRulemaking Portal: http://www.regulations.gov. Follow the instructions for submitting comments on Docket No. FWS-HQ-IA-2018-0001.

• U.S. mail or hand-delivery: Public Comments Processing, Attn: Docket No. FWS-HQ-IA-2018-0001; U.S. Fish and Wildlife Service Headquarters, MS: BPHC; 5275 Leesburg Pike, Falls Church, VA 22041-3803.

When submitting comments, please indicate the name of the applicant and the PRT# at the beginning of your comment. We will post all comments on http://www.regulations.gov. This generally means that we will post any personal information you provide us (see SUPPLEMENTARY INFORMATION for more information).

FOR FURTHER INFORMATION CONTACT: Joyce Russell, 703-358-2280.

SUPPLEMENTARY INFORMATION:

I. Public Comment Procedures

A. How do I comment on submitted applications?

You may submit your comments and materials by one of the methods listed under Submitting Comments in the ADDRESSES section. We will not consider comments sent by email or fax, or to an address not in the ADDRESSES section.

Please make your requests or comments as specific as possible, confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above in ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

To help us carry out our conservation responsibilities for affected species, and in consideration of section 10(a)(1)(A) of the Endangered Species Act of 1973, as amended (ESA; 16 U.S.C. 1531 et seq.), we invite public comment on these permit applications before final action is taken.

III. Permit Applications

We invite the public to comment on applications to conduct certain activities with endangered species. With some exceptions, the ESA prohibits activities with listed species unless Federal authorization is acquired that allows such activities.

Applicant: NOAA/Pacific Islands Regional Office, Honolulu, HI; PRT-022729

The applicant requests reissuance of their permit to import from the high seas samples and/or whole carcasses of short-tailed albatross (Phoebastria albatrus) for the purpose of enhancement of the species through scientific research. This notice covers activities conducted by the applicant over a 5-year period.

Applicant: Southwest Fisheries Science Center, La Jolla, CA; PRT-68677C (Previously PRT-844694)

The applicant requests reissuance of the permit to import biological samples collected from wild and captive-bred animals of Kemp's ridley sea turtle (Lepidochelys kempii), hawksbill sea turtle (Eretmochelys imbricata), leatherback sea turtle (Dermochelys coriacea), green sea turtle (Chelonia mydas), loggerhead sea turtle (Caretta caretta), and olive ridley sea turtle (Lepidochelys olivacea) for the purpose of scientific research. Samples are collected from live or salvaged specimens. This notification covers activities conducted by the applicant over a 5-year period.

Applicant: Zoological Society of San Diego; PRT-53381C

The applicant requests a permit to import one male and two female captive-born quokka (Setonix brachyurus) to enhance the propagation and survival of the species. This notification is for a single import.

Applicant: Zoological Society of Pittsburgh; PRT-69379C

The applicant requests a permit to import African elephant (Loxodonta africana) semen to enhance the propagation and survival of the species. This notification is for multiple imports.

Applicant: Charles Jordan, d/b/a NBJ Zoological Park, LTD., Spring Ranch, TX; PRT-751619

The applicant requests a captive-bred wildlife registration under 50 CFR 17.21(g) for the following species to enhance species propagation or survival: Arabian oryx (Oryx leucoryx), ring-tailed lemur (Lemur catta), black and white ruffed lemur (Varecia variegata), brown lemur (Eulemur fulvus), Diana monkey (Cercopithicus diana), and lar gibbon (Hylobates lar). This notification covers activities to be conducted by the applicant over a 5-year period.

Multiple Trophies

The following applicants each request a permit to import sport-hunted trophies of a male bontebok (Damaliscus pygargus pygargus) culled from a captive herd maintained under the management program of the Republic of South Africa, for the purpose of enhancing the propagation or survival of the species.

Applicant: Thomas McRae Sloan, Midland, TX; PRT-63058C

Applicant: Frazer Wadenstorer, Holly, MI: PRT-44772C

Applicant: Michael R. Sartorie, Billings, MT; PRT-66543C

Applicant: Scott A. Lamphere, Henderson, MI; PRT-69701C

Applicant: Timothy Ferrall, Riverside, CA; PRT-61303C

Applicant: James Toney, Baker, LA; PRT-61596C

Applicant: Robert Hennen, Isle, MN; PRT-61302C

IV. Next Steps

If the Service decides to issue permits to any of the applicants listed in this notice, we will publish a notice in the Federal Register. You may locate the Federal Register notice announcing the permit issuance date by searching in www.regulations.gov under the permit number listed in this document (e.g., PRT-12345X).

VI. Authority

Endangered Species Act of 1973 (16 U.S.C. 1531 et seq.).

Joyce Russell,
Government Information Specialist, Branch of Permits, Division of Management Authority.

[FR Doc. 2018-06036 Filed 3-23-18; 8:45 am]

BILLING CODE 4333-15-P